GENERAL SERVICES ADMINISTRATION

[OMB Control No. 3090-00XX; Docket No. 2016-0001; Sequence 11]

Submission for OMB Review; Alliant2 Greenhouse Gas Disclosure

AGENCY: Federal Acquisition Service (FAS), General Services Administration (GSA).

ACTION: Notice of request for comments regarding a new request for an OMB clearance.

SUMMARY: Under the provisions of the Paperwork Reduction Act, the Regulatory Secretariat Division will be submitting to the Office of Management and Budget (OMB) a request to review and approve a new information collection requirement regarding OMB Control No: 3090-00XX; Alliant2 Greenhouse Gas Disclosure. A notice was published in the Federal Register at 81 FR 57911 on August 24, 2016. Three comments were received.

DATES: Submit comments on or before February 13, 2017.

ADDRESSES: Submit comments identified by Information Collection 3090-00xx; Alliant2 Greenhouse Gas Disclosure by any of the following methods:

• Regulations.gov: http://www.regulations.gov. Submit comments via the Federal eRulemaking portal by searching for “Information Collection 3090-00xx; Alliant2 Greenhouse Gas reporting”. Select the link “Submit a Comment” that corresponds with “Information Collection 3090-00xx; Alliant2 Greenhouse Gas Disclosure”. Follow the instructions provided at the “Submit a Comment” screen. Please include your name, company name (if any), and “Information Collection 3090-00xx; Alliant2 Greenhouse Gas Disclosure” on your attached document.

• Mail: General Services Administration, U.S. General Services Administration, Regulatory Secretariat Division (MVCB), 1800 F Street NW., Washington, DC 20405. ATTN: Ms. Flowers/IC 3090-00XX, Alliant2 Greenhouse Gas Disclosure.

Instructions: Please submit comments only and cite Information Collection 3090-00XX; Alliant2 Greenhouse Gas Disclosure, in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Dana Arnold, Director, Federal Acquisition Service Office of Acquisition Management, Special Programs Branch, at telephone 703-605-0534, or via email to dana.arnold@gsa.gov.

SUPPLEMENTARY INFORMATION:

A. Purpose

President Obama has made Greenhouse Gas (GHG) Emissions reduction nationwide and in the Federal community a priority. The President's Executive Order 13693, Planning for Federal Sustainability in the Next Decade, published in the Federal Register at 80 FR 15871, on March 25, 2015, requires the seven largest procuring agencies to implement procurements that take into consideration contractor GHG emissions and GHG management practices.

GSA has selected the Alliant2 Government-wide Acquisition Contract (GWAC) acquisition for inclusion of contractor GHG emissions disclosure requirements. Alliant, GSA's premier enterprise GWAC, provides flexible access to customized IT solutions from a large, diverse pool of industry partners. Alliant2 will offer both large and small contractors. It is GSA's intent to require the large (unrestricted) Alliant2 contractors to inventory and publicly disclose their operational GHG emissions, set targets for reducing those emissions, and disclose progress toward meeting their targets. Of the current Alliant contractors, approximately 40 percent already publicly disclose their GHG emissions in response to requests from their non-government customers, investors, insurers, and corporate sustainability policies.

Public disclosure of GHG emissions and GHG reduction goals or targets has become standard practice in many industries, and companies are increasingly asking their own suppliers about their GHG management practices. More than 4,000 companies provided public disclosure through third-party organization CDP (formerly the Carbon Disclosure Project) in 2015. Performing a GHG inventory provides insight into operations and opportunities for energy and operational savings that can result in both environmental and financial benefits.

The Allliant2 GHG disclosure requirement will require the unrestricted (large and medium-sized) Alliant2 contractors to inventory, and publicly disclose their operational GHG emissions, set targets for reducing those emissions, and report progress toward meeting their targets. This will be an annual requirement.

B. Discussion and Analysis

GSA received three comments from one individual and one industry association.

Comment: A commenter noted that contracting law with respect to GHG disclosures should be established in the Federal Acquisition Regulation, not an individual acquisition.

Response: E.O. 13693 requires the seven largest purchasing agencies to include GHG management in five acquisitions annually. As one of the seven agencies, GSA selected the Alliant2 contract as one of its five acquisitions for FY2017.

Comment: A commenter stated that requirements for GHG disclosure should be limited to the reporting on the existence of a GHG inventory and targets for reductions, with the corresponding provision of a URL to a publicly available Web site where this information has already been disclosed.

Response: GSA believes that simply reporting that GHG emissions information has been disclosed through a third-party portal or a corporate Web site is not enough. Rather, the sharing of information about GHG management will be useful to the Alliant2 contractors, particularly to provide best practices proven to increase energy efficiency and reduce costs. GSA can review the disclosures for best practices and share them with the Alliant2 community.

Comment: The commenter supports the approach to GHG disclosure laid out by the Alliant2 contracting office, noting that it is the least invasive and should be the pattern across government as additional GHG inventory and disclosure requirements become more prevalent. The Alliant2 awardees should be required to disclose whether they have a GHG inventory and goals or targets, and if so where they make the inventory and goals or targets publicly available. The commenter believes that a Paperwork Reduction Act waiver is not necessary.

Response: GSA thanks the commenter for the comment.

Comment: The commenter stated that the estimated annual reporting burden was too low and estimated that for large companies operating globally the burden could exceed 200 hours annually.

Response: The Alliant2 contractors under the unrestricted contract will be a mix of large and medium-sized businesses, not all of whom operate globally. Taking into account the new information provided by the commenter, previous research, as well as its own experience conducting a GHG inventory across a large set of buildings, GSA is increasing the estimated burden to 120 hours per respondent annually.

C. Annual Reporting Burden

Respondents: 60.

Responses per Respondent: 1.

Total Annual Responses: 60.

Hours per Response: 120.

Total Burden Hours: 7,200.

Public comments are particularly invited on: Whether this collection of information is necessary, whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW., Washington, DC 20405, telephone 202-501-4755.

Please cite OMB Control No. 3090-00XX, Alliant2 Greenhouse Gas Disclosure, in all correspondence.

Dated: January 4, 2017.
David A. Shive,
Chief Information Officer.

[FR Doc. 2017-00483 Filed 1-11-17; 8:45 am]

BILLING CODE 6820-34-P